DEPARTMENT OF TRANSPORTATION

Federal Aviation Administration

14 CFR Part 39

[Docket No. 98-ANE-43-AD; Amendment 39-11939; AD 2000-21-07]

RIN 2120-AA64

Airworthiness Directives; Pratt & Whitney JT8D-200 Series Turbofan Engines

AGENCY: Federal Aviation Administration, DOT.

ACTION: Final rule.

SUMMARY: This amendment supersedes an existing airworthiness directive (AD), applicable to certain Pratt & Whitney JT8D-200 series turbofan engines, that currently requires revisions to the Time Limits Section (TLS) of the JT8D-200 Turbofan Engine Manual to include required enhanced inspection of selected critical life-limited parts at each piece-part exposure. This AD adds additional critical life-limited parts for enhanced inspection. This proposal is prompted by additional focused inspection procedures that have been developed by the manufacturer. The actions specified by this proposed AD are intended to prevent critical life-limited rotating engine part failure, which could result in an uncontained engine failure and damage to the airplane.

DATES: Effective date April 23, 2001.

ADDRESSES: The information referenced in this AD may be examined at the Federal Aviation Administration (FAA), New England Region, Office of the Regional Counsel, 12 New England Executive Park, Burlington, MA.

FOR FURTHER INFORMATION CONTACT: Christopher Spinney, Aerospace Engineer, Engine Certification Office, FAA, Engine and Propeller Directorate, 12 New England Executive Park, Burlington, MA 01803; telephone 781-238-7175, fax 781-238-7199.

SUPPLEMENTARY INFORMATION: A proposal to amend part 39 of the Federal Aviation Regulations (14 CFR part 39) by superseding AD 99-12-04, Amendment 39-11188 (64 FR 30382, June 8, 1999), which is applicable to Pratt & Whitney (PW) JT8D-200 turbofan engines, was published in the Federal Register on October 7, 1999 (64 FR 54598). to require revisions to the Time Limits Section (TLS) of the PW JT8D-200 series Turbofan Engine Manual to include required enhanced inspection of selected critical life-limited parts at each piece-part exposure.

Since the issuance of that AD, additional focused inspection procedures for other critical life-limited rotating engine parts have been developed by PW.

Interested persons have been afforded an opportunity to participate in the making of this amendment. Due consideration has been given to the two comments received.

Request To Extend the Comment Period

One comment requests that the FAA extend the NPRM comment period because the required procedures had not been published in the engine manual (EM). The FAA does not agree.

The FAA believes that the nature and scope of the added inspections will not be significantly different from existing inspections. In addition, the effective date of this AD has been extended to 180 days after publication to allow time for the specific procedures to be published. The extra time until the AD becomes effective should also allow the manufacturer to issue a manual revision. Operators may submit comments to the docket file on the specific procedures, once they are published, and the FAA will consider extending the effective date further or additional rulemaking, as necessary. The FAA does not believe, however, that this final rule need be delayed pending the publication of the inspection procedures, or the initial compliance time extended to accommodate the manufacturer's manual revision cycle.

Request to Remove Part Numbers

One comment requests that the FAA remove the part numbers from the proposed AD. The commenter states that the part numbers are unnecessary, and eliminating them will minimize the administrative burden on the operators. The FAA does not agree. The current structure of the JT8D-200 engine manual does not lend itself to reference “all” part numbers as does the structure of other engine lines. However, the FAA will discuss the possibility of converting the engine manual to incorporate the simpler approach in future supersedures of the JT8D-200 enhanced inspection AD.

No comments were received on the economic analysis contained in the proposed rules. Based on that analysis, the FAA has determined that the annual per engine cost of $60 does not create a significant economic impact on small entities.

After careful review of the available data, including the comments noted above, the FAA has determined that air safety and the public interest require the adoption of the rule with the changes described previously. The FAA has determined that these changes will neither increase the economic burden on any operator nor increase the scope of the AD.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11188 (64 FR 30382, June 8, 1999) and by adding a new airworthiness directive, Amendment 39-11939, to read as follows:

AD2000-21-07 Pratt & Whitney: Amendment 39-11939. Docket 98-ANE-43-AD.

Applicability: Pratt & Whitney (PW) JT8D-200 series turbofan engines, installed on but not limited McDonnell Douglas MD-80 series airplanes.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent critical life-limited rotating engine part failure, which could result in an uncontained engine failure and damage to the airplane, accomplish the following:

Inspections

(a) Within the next 30 days after the effective date of this AD, revise the Time Limits Section (TLS) of the JT8D/09200 Turbofan Engine Manual, and for air carrier operations revise the approved continuous airworthiness maintenance program, by adding the following:

“Critical Life Limited Part Inspection

A. Inspection Requirements

(1) This section contains the definitions for individual engine piece-parts and the necessary inspection procedures when these parts are removed from the engine.

(2) It is necessary to do the inspection procedures of the piece-parts in Paragraph B when:

(a) The part is removed from the engine and disassembled to the level specified in paragraph B and

(b) The part has accumulated more than 100 cycles since the last piece-part inspection, provided that the part is not damaged or related to the cause of its removal from the engine.

(3) The inspections specified in this section neither replace nor negate other recommended inspections for these parts or other parts.

B. Parts Requiring Inspection.

Note: Piece-part is defined as any of the listed parts with all the blades removed.

Description | Engine manual: Section | Engine manual: Inspection
Hub (Disk), 1st Stage Compressor
5000501-01 (Hub detail) | 72-33-31 | -02, -03
5000421-01 (Hub assembly) | 72-33-31 | -02, -03
HP Turbine Disk, First Stage
804301 | 72-52-02, | -03
5004501-01 | 72-52-02 | -03
856701 | 72-52-02 | -03
5004301-01 | 72-52-02 | -03
832201 | 72-52-02 | -03
855701 | 72-52-02 | -03
856601 | 72-52-02 | -03”

(b) Except as provided in paragraph (c) of this AD, and notwithstanding contrary provisions in section 43.16 of the Federal Aviation Regulations (14 CFR 43.16), these mandatory inspections shall be performed only in accordance with the TLS of the PW JT8D-200 Turbofan Engine Manual.

Alternative Methods of Compliance

(c) An alternative method of compliance or adjustment of the compliance time that provides an acceptable level of safety may be used if approved by the Engine Certification Office (ECO). Operators shall submit their requests through an appropriate FAA Principal Maintenance Inspector (PMI), who may add comments and then send it to the ECO.

Note 2: Information concerning the existence of approved alternative methods of compliance with this airworthiness directive, if any, may be obtained from the ECO.

Ferry Flights

(d) Special flight permits may be issued in accordance with sections 21.197 and 21.199 of the Federal Aviation Regulations (14 CFR 21.197 and 21.199) to operate the airplane to a location where the requirements of this AD can be accomplished.

Continuous Airworthiness Maintenance Program

(e) FAA-certificated air carriers that have an approved continuous airworthiness maintenance program in accordance with the record keeping requirement of § 121.369(c) of the Federal Aviation Regulations (14 CFR 121.369(c)) must maintain records of the mandatory inspections that result from revising the TLS of the PW JT8D-200 Turbofan Engine Manual, and the air carrier's continuous airworthiness program.

Alternately, certificated air carriers may establish an approved system of record retention that provides a method for preservation and retrieval of the maintenance records that include the inspections resulting from this AD, and include the policy and procedures for implementing this alternate method in the air carrier's maintenance manual required by § 121.369(c) of the Federal Aviation Regulations (14 CFR 121.369(c)); however, the alternate system must be accepted by the appropriate PMI and require the maintenance records be maintained either indefinitely or until the work is repeated. Records of the piece-part inspections are not required under § 121.380(a)(2)(vi) of the Federal Aviation Regulations (14 CFR 121.380(a)(2)(vi)). All other operators must maintain the records of mandatory inspections required by the applicable regulations governing their operations.

Note 3: The requirements of this AD have been met when the engine manual changes are made and air carriers have modified their continuous airworthiness maintenance plans to reflect the requirements in the PW JT8D-200 Turbofan Engine Manual.

(f) This amendment becomes effective on April 23, 2001.

Issued in Burlington, Massachusetts, on October 16, 2000.
Jay J. Pardee,
Manager, Engine and Propeller Directorate, Aircraft Certification Service.

[FR Doc. 00-26970 Filed 10-23-00; 8:45 am]

BILLING CODE 4910-13-P